UNIFIED CARRIER REGISTRATION PLAN

Sunshine Act; Meeting

TIME AND DATE: May 19, 2022, 11 a.m. to 1 p.m., Eastern time.

PLACE: This meeting will be accessible via conference call and via Zoom Meeting and Screenshare. Any interested person may call (i) 1-929-205-6099 (US Toll) or 1-669-900-6833 (US Toll) or (ii) 1-877-853-5247 (US Toll Free) or 1-888-788-0099 (US Toll Free), Meeting ID: 922 7219 7200, to listen and participate in this meeting. The website to participate via Zoom Meeting and Screenshare is https://kellen.zoom.us/meeting/register/tJYvcOuppzwoGtQ6BgoDuRXJFUdjcg0GW6jg.

STATUS: This meeting will be open to the public.

MATTERS TO BE CONSIDERED: The Unified Carrier Registration Plan Industry Advisory Subcommittee (the “Subcommittee”) will conduct an initial organization meeting to begin its work in developing and implementing the Unified Carrier Registration Plan and Agreement. The subject matter of this meeting will include:

Agenda

I. Call to Order—Industry Advisory Subcommittee Chair

The Industry Advisory Subcommittee Chair will welcome attendees, call the meeting to order, call roll for the Industry Advisory Subcommittee, confirm whether a quorum is present, and facilitate self-introductions.

II. Verification of Publication of Meeting Notice—Executive Director

The Executive Director will verify the publication of the meeting notice on the UCR website and distribution to the UCR contact list via email followed by the subsequent publication of the notice in the Federal Register.

III. Review and Approval of Subcommittee Agenda—Industry Advisory Subcommittee Chair

For Discussion and Possible Board Action

The proposed Agenda will be reviewed, and the Subcommittee will consider adoption.

Ground Rules

➢ Subcommittee actions taken only in designated areas on agenda

IV. Discussion of the Role of the Subcommittee—Executive Director

The Executive Director will discuss the statutory role of the Subcommittee.

V. UCR Compliance and Increasing Participation—Tamara Young, UCR Board Member

UCR Board Member Tamara Young will discuss UCR compliance and increasing participation.

VI. Truck Parking Initiative—Monte Wiederhold, UCR Board Member

UCR Board Member Monte Wiederhold will discuss the truck parking initiative.

VII. Discussion on the Value of Participation in the Industry Advisory Subcommittee for the Motor Carrier Industry—Industry Advisory Subcommittee Members

Industry Advisory Subcommittee Members will discuss the value of participation in the Industry Advisory Subcommittee for the motor carrier industry.

VIII. Other Items—Industry Advisory Subcommittee Chair

The Industry Advisory Subcommittee Chair will call for any other items Subcommittee members would like to discuss.

IX. Adjournment—Industry Advisory Subcommittee Chair

The Industry Advisory Subcommittee Chair will adjourn the meeting.

The agenda will be available no later than 5 p.m. Eastern time, May 12, 2022 at: https://plan.ucr.gov.

CONTACT PERSON FOR MORE INFORMATION: Elizabeth Leaman, Chair, Unified Carrier Registration Plan Board of Directors, (617) 305-3783, eleaman@board.ucr.gov.

Alex B. Leath,
Chief Legal Officer, Unified Carrier Registration Plan.

[FR Doc. 2022-10557 Filed 5-12-22; 11:15 am]

BILLING CODE 4910-YL-P